RAILROAD RETIREMENT BOARD

Proposed Collection; Comment Request

SUMMARY: In accordance with the requirement of section 3506(c)(2)(A) of the Paperwork Reduction Act of 1995 which provides opportunity for public comment on new or revised data collections, the Railroad Retirement Board (RRB) will publish periodic summaries of proposed data collections.

Comments are invited on: (a) Whether the proposed information collection is necessary for the proper performance of the functions of the agency, including whether the information has practical utility; (b) the accuracy of the RRB's estimate of the burden of the collection of the information; (c) ways to enhance the quality, utility, and clarity of the information to be collected; and (d) ways to minimize the burden related to the collection of information on respondents, including the use of automated collection techniques or other forms of information technology.

Title and purpose of information collection: Request for Internet Services.

The RRB is establishing a Person Identification Number (PIN)/Password system that will allow RRB applicants, annuitants and other customers to conduct business with the agency electronically. As part of that system, the RRB will collect and use information needed to establish a Password Request Code (PRC) with the RRB. Once a PRC is established, the RRB will collect information from users to establish a unique PIN/Password that will allow access to all RRB Internet based applications. To receive a PRC, the RRB will request that the following information be provided in all cases: The name of the railroad employee, the railroad employee's Social Security Number, their date of birth and their mailing address. In addition, spouses of railroad employees requesting their own PRC's will also be required to provide their full name, social security number, date of birth and mailing address if difference from the railroad employee. Optional information will include their internet E-mail address and day time telephone number. The information provided will be matched against records of the railroad employee maintained by the RRB. If the information is verified, the request will be approved and the RRB will mail a PRC to the requestor. If the information does not match, the requestor will be advised to contact the nearest RRB field office to resolve any discrepancy. After obtaining a PRC from the RRB, the requestor can apply for a PIN/Password online. Once the PIN/Password has been established, the requestor will have access to all RRB Internet based applications.

The RRB estimates that approximately 5000 requests for PRC's and PIN/Passwords will be received annually. Completion is voluntary, however, the RRB will be unable to provide a PRC or allow a requestor to establish a PIN/Password (thereby denying system access), if the requests are not completed. We estimate that it will take about 5 minutes per response to secure a PRC and about 1.5 minutes to establish a PIN/Password.

Additional Information or Comments

To request more information or to obtain a copy of the information collection justification, forms, and/or supporting material, please call the RRB Clearance Officer at (312) 751-3363. Comments regarding the information collection should be addressed to Ronald J. Hodapp, Railroad Retirement Board, 844 N. Rush Street, Chicago, Illinois 60611-2092. Written comments should be received within 60 days of this notice.

Chuck Mierzwa,
Clearance Officer.

[FR Doc. 01-13937 Filed 6-1-01; 8:45 am]

BILLING CODE 7905-01-M